FEDERAL DEPOSIT INSURANCE CORPORATION

Determination of Insufficient Assets To Satisfy Claims Against Financial Institution in Receivership

AGENCY: Federal Deposit Insurance Corporation (FDIC).

ACTION: Notice.

SUMMARY: The FDIC has determined that insufficient assets exist in the receivership of Miami Valley Bank, Lakeview, Ohio, to make any distribution to general unsecured claims, and therefore such claims will recover nothing and have no value.

DATES: The FDIC made its determination on March 28, 2011.

FOR FURTHER INFORMATION CONTACT: If you have questions regarding this notice, you may contact an FDIC Claims Agent at (972) 761-8677. Written correspondence may also be mailed to FDIC as Receiver of Miami Valley Bank, Attention: Claims Agent, 1601 Bryan Street, Dallas, Texas 75201.

SUPPLEMENTARY INFORMATION:

On October 4, 2007, Miami Valley Bank, Lakeview, Ohio, (FIN #10002) was closed by the Department of Financial Institutions for the State of Ohio, and the Federal Deposit Insurance Corporation (“FDIC”) was appointed as its receiver (“Receiver”). In complying with its statutory duty to resolve the institution in the method that is least costly to the deposit insurance fund, see 12 U.S.C. 1823(c)(4)), the FDIC facilitated a transaction with The Citizens Banking Company, Sandusky, Ohio, to assume the insured deposits of the failed institution, while retaining the remaining assets of the bank for later disposition.

Section 11(d)(11)(A) of the Federal Deposit Insurance Act, 12 U.S.C. 1821(d)(11)(A), sets forth the order of priority for distribution of amounts realized from the liquidation or other resolution of an insured depository institution to pay claims. Under the statutory order of priority, administrative expenses and deposit liabilities must be paid in full before any distribution may be made to general unsecured creditors or any lower priority claims.

As of December 31, 2010, the value of assets available for distribution by the Receiver, together with all expected recovery sources, was $14,671,702. As of the same date, administrative expenses and depositor liabilities equaled $41,374,312, exceeding available assets by at least $26,702,610. Accordingly, the FDIC has determined that insufficient assets exist to make any distribution on general unsecured creditor claims (and any lower priority claims) and therefore all such claims, asserted or unasserted, will recover nothing and have no value.

Dated: March 29, 2011.
Robert E. Feldman,
Executive Secretary.

[FR Doc. 2011-7797 Filed 4-1-11; 8:45 am]

BILLING CODE 6714-01-P